DEPARTMENT OF THE INTERIOR

Bureau of Land Management

[LLMT-06000-01-L10200000-PG0000]

Notice of Public Meeting; Central Montana Resource Advisory Council

AGENCY: Bureau of Land Management, Interior.

ACTION: Notice of Public Meeting.

SUMMARY: In accordance with the Federal Land Policy and Management Act and the Federal Advisory Committee Act of 1972, the U.S. Department of the Interior, Bureau of Land Management (BLM) Central Montana Resource Advisory Council (RAC) will meet as indicated below.

DATES: The meeting will be June 20 and 21, 2012.

The June 20 meeting will begin at 10 a.m. with a 30-minute public comment period and will adjourn at 5:30 p.m.

The June 21 meeting will begin at 8 a.m.; with a 30-minute public comment period beginning at 10 a.m.; and will adjourn at 3:00 p.m.

ADDRESSES: The meetings will in the Great Northern Hotel at 2 S. 1st Street East, in Malta, Montana.

FOR FURTHER INFORMATION CONTACT: Gary L. “Stan” Benes, Central Montana District Manager, Lewistown Field Office, 920 NE Main, Lewistown, Montana 59457, (406) 538-1900, gary_benes@blm.gov. Persons who use a telecommunications device for the deaf (TDD) may call the Federal Information Relay Service (FIRS) at 1-800-677-8339 to contact the above individual during normal business hours. The FIRS is available 24 hours a day, 7 days a week to leave a message or question with the above individual. You will receive a reply during normal business hours.

SUPPLEMENTARY INFORMATION: This 15-member council advises the Secretary of the Interior on a variety of management issues associated with public land management in Montana. During these meetings the council will participate in/discuss/act upon these topics/activities: A roundtable discussion among council members and the BLM; the Judith Moccasin travel plan; the Charles M. Russell National Wildlife Refuge conservation plan; the Gilmore cabin rental; one-time commercial river permits; a Greater Sage-Grouse update; activities surrounding the Homesteading Acts; Judith River and Arrow Creek reserved water rights; district managers' updates; fire program updates; and a presentation led by the RAC's Category III.

All RAC meetings are open to the public. The public may present written comments to the RAC. Each formal RAC meeting will also have time allocated for hearing public comments. Depending on the number of persons wishing to comment and time available, the time for individual oral comments may be limited.

Gary L. “Stan” Benes,
Lewistown District Manager.

[FR Doc. 2012-13042 Filed 5-29-12; 8:45 am]

BILLING CODE 4310-DN-P